DEPARTMENT OF JUSTICE

Antitrust Division

Notice Pursuant to the National Cooperative Research and Production Act of 1993—ODVA, Inc.

Notice is hereby given that, on June 30, 2010, pursuant to Section 6(a) of the National Cooperative Research and Production Act of 1993, 15 U.S.C. 4301 et seq. (“the Act”), ODVA, Inc. (“ODVA”) has filed written notifications simultaneously with the Attorney General and the Federal Trade Commission disclosing changes in its membership. The notifications were filed for the purpose of extending the Act's provisions limiting the recovery of antitrust plaintiffs to actual damages under specified circumstances. Specifically, Pivotal Systems Corporation, Pleasanton, CA; SPMC (Changzhou) Co. Ltd., Changzhou, Jiangsu, PEOPLE'S REPUBLIC OF CHINA; Lenze-AC Tech Corporation, Uxbridge, MA; Misumi Corporation, Tokyo, JAPAN; Kollmorgen Corporation, Radford, VA; COPA-DATA GmbH, Salzburg, AUSTRIA; ROPEX Industrie Elektronik GmbH, Bietigheim-Bissingen, GERMANY; Zhuzhou CSR Times Electric Co., Ltd., Hunan, PEOPLE'S REPUBLIC OF CHINA; RS Automation Co., Ltd., Yongin-City, Gyeonggi-do, REPUBLIC OF KOREA; Office FA.com Co., Ltd., Tochigi, JAPAN; FlexLink, Göteborg, SWEDEN; and AccuSentry Inc., Marietta, GA, have been added as parties to this venture.

Also, Control System Technology Pty. Ltd., Peakhurst NSW, AUSTRALIA; KASHIYAMA Industries Ltd., Tokyo, JAPAN; Leuze lumiflex GmbH + Co., Fuerstenfeldbruck, GERMANY; Meggitt Airdynamics, Inc., a Division of Whittaker Controls, Meggitt PLC, Corona, CA; Moog Inc., East Aurora, NY; Riken Keiki Co., Ltd., Tokyo, JAPAN; Rockwell Automation Korea, Seoul, REPUBLIC OF KOREA; Taiyo Electric Wire & Cable Co., Ltd., Osaka, JAPAN; VAT Vacuum Valves AG, Haag, SWITZERLAND; and Vector Informatik GmbH, Stuttgart, GERMANY, have withdrawn as parties to this venture.

No other changes have been made in either the membership or planned activity of the group research project. Membership in this group research project remains open, and ODVA intends to file additional written notifications disclosing all changes in membership.

On June 21, 1995, ODVA filed its original notification pursuant to Section 6(a) of the Act. The Department of Justice published a notice in the Federal Register pursuant to Section 6(b) of the Act on February 15, 1996 (61 FR 6039).

The last notification was filed with the Department on March 17, 2010. A notice was published in the Federal Register pursuant to Section 6(b) of the Act on May 6, 2010 (75 FR 24972).

Patricia A. Brink,
Deputy Director of Operations, Antitrust Division.

[FR Doc. 2010-18747 Filed 7-30-10; 8:45 am]

BILLING CODE 4410-11-M